DEPARTMENT OF HOMELAND SECURITY

Federal Emergency Management Agency

44 CFR Part 67

[Docket No. FEMA-D-7640]

Proposed Flood Elevation Determinations

AGENCY: Federal Emergency Management Agency (FEMA), Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, FEMA, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
NORTH CAROLINA | Harnett County
Anderson Creek | At the confluence with Lower Little River | None | •103 | Unincorported Areas of Harnett County.
| At the confluence with North Prong Anderson Creek and South Prong Anderson Creek | None | •137 |
Tributary 1 | At the confluence with Anderson Creek | None | •129 | Unincorporated Areas of Harnett County.
| Approximately 0.7 mile upstream of Elliott Bridge Road | None | •136 |
Avents Creek | Approximately 0.7 mile upstream of the confluence with Cape Fear River | •142 | •141 | Unincorporated Areas of Harnett County.
| Approximately 0.8 mile upstream of Oakridge River Road | None | •235 |
Barbeque Creek | At the confluence with Upper Little River | None | •193 | Unincorporated Areas of Harnett County.
| Approximately 520 feet upstream of NC State Route 27 | None | •280 |
Beaver Creek | At the Moore/Lee/Harnett County boundary | None | •309 | Unincorporated Areas of Harnett County.
| Approximately 1.3 miles upstream of the Harnett/Moore County boundary | None | •409 |
Big Branch (into Barbeque Creek) | At the confluence with Barbeque Creek | None | •214 | Unincorporated Areas of Harnett County.
| Approximately 0.5 mile upstream of McCormick Road | None | •252 |
Big Branch (into Black River) | At the confluence with Black River | None | •206 | Unincorporated Areas of Harnett County.
| Approximately 0.8 mile upstream of Johnson Road | None | •219 |
Black River | At the Harnett/Cumberland County boundary | None | •139 | Unincorporated Areas of Harnett County, City of Dunn, Town of Angier.
| Approximately 2.1 miles upstream of Guy Road | None | •260 |
Buffalo Creek | At the Harnett/Moore County boundary | None | •218 | Unincorporated Areas of Harnett County.
| At the confluence with Duncan Creek | None | •251 |
Tributary 2 | At the confluence with Buffalo Creek | None | •220 | Unincorporated Areas of Harnett County.
| Approximately 2.6 miles upstream of Hillmon Grove Road | None | •276 |
Tributary 3 | At the confluence with Buffalo Creek | None | •239 | Unincorporated Areas of Harnett County.
| Approximately 1.4 miles upstream of the confluence with Buffalo Creek | None | •292 |
Buffalo Meadows Creek | At the confluence with Anderson Creek | None | •120 | Unincorporated Areas of Harnett County.
| Approximately 1.3 miles upstream of the confluence with Anderson Creek | None | •140 |
Buies Creek | At the upstream side of Sheriff Johnson Road | None | •176 | Unincorporated Areas of Harnett County.
| Approximately 0.8 mile upstream of Sheriff Johnson Road | None | •184 |
Camels Creek | Approximately 1.1 miles upstream of the confluence with Cape Fear River | •142 | •143 | Unincorporated Areas of Harnett County.
| Approximately 0.9 mile upstream of Cool Springs Road | None | •245 |
Cedar Creek | Approximately 0.8 mile upstream of the confluence with Cape Fear River | None | •198 |
| Approximately 2.9 miles upstream of the confluence with Cape Fear River | None | •198 |
Cypress Creek (into Crane Creek) | At the Moore/Harnett County boundary | None | •228 | Unincorporated Areas of Harnett County.
| Approximately 1.8 miles upstream of Cypress Road | None | •265 |
Cypress Creek (into Gum Swamp) | At the confluence with Gum Swamp | None | •239 | Unincorporated Areas of Harnett County.
| Approximately 1.5 miles upstream of the confluence with Lower Run | None | •307 |
Daniels Creek | Approximately 0.9 mile upstream of the confluence with Cape Fear River | None | •148 | Unincorporated Areas of Harnett County.
| Approximately 5.8 miles upstream of the confluence with Cape Fear River | None | •244 |
Dry Creek | At the confluence with Gum Swamp | None | •232 | Unincorporated Areas of Harnett County.
| Approximately 1.1 miles upstream of the confluence with Gum Swamp | None | •249 |
Duncans Creek | At the confluence with Buffalo Creek | None | •251 | Unincorporated Areas of Harnett County.
| At the confluence with Duncans Creek Tributary 1 | None | •265 |
Tributary 1 | At the confluence with Duncans Creek | None | •265 | Unincorporated Areas of Harnett County.
| Approximately 0.4 mile upstream of the confluence with Duncans Creek | None | •274 |
East Buies Creek | Approximately 100 feet upstream Sheriff Johnson Road | None | •196 | Unincorporated Areas of Harnett County.
| Approximately 1.2 miles upstream of Sheriff Johnson Road | None | •205 |
Gum Swamp | At the confluence with Barbeque Creek | None | •222 | Unincorporated Areas of Harnett County.
| Approximately 0.8 mile upstream of Ponderosa Road | None | •281 |
Hector Creek (into Cape Fear River) | At the downstream side of Christian Light | •135 | •136 | Unincorporated Areas of Harnett County.
| Approximately 1,200 feet downstream of Rawls Church Road | None | •240 |
Hector Creek (into Little River) | At the Harnett/Cumberland/Moore County boundary | None | •193 | Unincorporated Areas of Harnett County.
| Approximately 1.6 miles upstream of the Harnett/Cumberland/Moore County boundary | None | •226 |
Jumping Run Creek | Approximately 1.8 miles downstream of the Harnett/Cumberland County boundary | None | •141 | Unincorporated Areas of Harnett County.
| At the Reedy Swamp/McLeod Creek confluences | None | •194 |
Jumping Run Creek
Tributary 1 | At the confluence with Jumping Run Creek | None | •177 | Unincorporated Areas of Harnett County.
| Approximately 0.2 mile upstream of the confluence with Jumping Run Creek Tributary 2 | None | •199 |
Tributary 2 | At the confluence with Jumping Run Creek Tributary 1 | None | •193 | Unincorporated Areas of Harnett County.
| Approximately 400 feet upstream of the confluence with Jumping Run Creek Tributary 1 | None | •195 |
Juniper Creek (into Black River Tributary 1) | At the confluence with Juniper Creek (into Black River) | None | •191 | Unincorporated Areas of Harnett County, City of Dunn.
| Approximately 0.5 mile upstream of the confluence with Juniper Creek (into Black River) | None | •197 |
Juniper Creek (into Black River) | Approximately 600 feet upstream of the confluence with Black River | None | •159 | Unincorporated Areas of Harnett County, City of Dunn.
| Approximately 340 feet upstream of Friendly Road | None | •213 |
Kates Creek | At the confluence with North Prong Anderson Creek | None | •155 | Unincorporated Areas of Harnett County.
| Approximately 0.4 mile upstream of Elliott Bridge Road | None | •172 |
Kenneth Creek | At the confluence with Neals Creek | None | •202 | Unincorporated Areas of Harnett County.
| At the Wake/Harnett County boundary | None | •256 |
Lower-Little River | Approximately 1.1 miles upstream of Mill Road | None | •103 | Unincorporated Areas of Harnett County.
| Approximately 750 feet downstream of McCormick Bridge Road (At the Harnett/Cumberland County boundary) | None | •135 |
Lower Run | At the confluence with Cypress Creek (into Gum Swamp | None | •272 | Unincorporated Areas of Harnett County.
| Approximately 0.9 mile upstream of the confluence with Cypress Creek (into Gum Swamp) | None | •338 |
McDougald Branch | At the confluence with Cypress Creek (into Crane Creek) | None | •234 | Unincorporated Areas of Harnett County.
| At the confluence with McDougald Branch Tributary 1 | None | •249 |
Tributary 1 | At the confluence with McDougald Branch | None | •249 | Unincorporated Areas of Harnett County.
| Approximately 0.5 mile upstream of the confluence with McDougald Branch | None | •274 |
McLeans Creek | At the confluence with Upper Little River | None | •136 | Unincorporated Areas of Harnett County.
| Approximately 800 feet downstream of Thompson Road | None | •154 |
McLeod Creek | At the confluence with Jumping Run Creek and Reedy Swamp | None | •194 | Unincorporated Areas of Harnett County.
| Approximately 2.8 miles upstream of the confluence with Jumping Run Creek and Reedy Swamp | None | •247 |
Mill Creek | At the confluence with Avents Creek | None | •152 | Unincorporated Areas of Harnett County.
| Approximately 0.8 mile upstream of the confluence with Avents Creek | None | •183 |
Mingo Swamp | At the Cumberland/Sampson/Harnett County boundary | None | •134 | Unincorporated Areas of Harnett County.
| Approximately 0.7 mile upstream of Red Hill Church Road | None | •255 |
Mingo Swamp | At the confluence with Mingo Swamp | None | •179 | Unincorporated Areas of Harnett County.
| Approximately 500 feet upstream of I-95 | None | •234 |
Mire Branch | At the confluence with Barbeque Creek | None | •249 | Unincorporated Areas of Harnett County.
| Approximately 0.7 mile upstream of NC State Route 87 | None | •279 |
Muddy Creek | At the Cumberland/Harnett County boundary | None | •175 | Unincorporated Areas of Harnett County.
| Approximately 2.3 miles upstream of the confluence with Muddy Creek Tributary 3 | None | •244 |
Tributary 1 | At the confluence with Muddy Creek | None | •186 | Unincorporated Areas of Harnett County.
| Approximately 1.2 miles upstream of the confluence with Muddy Creek | None | •222 |
Tributary 2 | At the confluence with Muddy Creek | None | •199 | Unincorporated Areas of Harnett County.
| Approximately 1.4 miles upstream of the confluence with Muddy Creek | None | •222 |
Tributary 3 | At the confluence with Muddy Creek | None | •207 | Unincorporated Areas of Harnett County.
| Approximately 1.0 mile upstream of the confluence with Muddy Creek | None | •250 |
Neals Creek | At the downstream side of Route 401 | •131 | •130 | Unincorporated Areas of Harnett County.
| At the Wake/Harnett County boundary | None | •264 |
Tributary 1 | At the confluence with Neals Creek | None | •221 | Unincorporated Areas of Harnett County.
| Approximately 0.4 mile upstream of Chalybeate Springs Road | None | •242 |
North Prong Anderson Creek | At the confluence with Anderson Creek and South Prong Anderson Creek | None | •137 | Unincorporated Areas of Harnett County.
| Approximately 0.9 mile upstream of Powell Farm Road | None | •225 |
Tributary 1 | At the confluence with North Prong Anderson Creek | None | •152 | Unincorporated Areas of Harnett County.
| Approximately 0.6 mile upstream of the confluence with North Prong Anderson Creek | None | •158 |
Parker Creek | Approximately 0.3 miles upstream of the confluence with Cape Fear River | None | •151 | Unincorporated Areas of Hartnett County.
| Approximately 3.9 miles upstream of the confluence with Cape Fear River | None | •237 |
Reedy Branch | At the confluence with Cypress Creek (into Crane Creek) | None | •237 | Unincorporated Areas of Harnett County.
| Approximately 1.8 miles upstream of Cypress Road | None | •282
Reedy Swamp | At the confluence with Jumping Run Creek and McLeod Creek | None | •194 | Unincorporated Areas of Harnett County.
| Approximately 300 feet downstream of Buffalo Lake Road | None | •302
South Prong Anderson Creek | At the confluence with Anderson Creek | None | •137 | Unincorporated Areas of Harnett County.
| Approximately 0.7 mile upstream of Bernard Street | None | •187
Tributary 1 | At the confluence with South Prong Anderson Creek | None | •156 | Unincorporated Areas of Harnett County.
| Approximately 1.0 mile upstream of the confluence with South Prong Anderson Creek | None | •168
Stewarts Creek | Approximately 100 feet upstream of Ashe Avenue | None | •163 | Unincorporated Areas of Harnett County.
| Approximately 1.4 miles upstream of Ashe Avenue | None | •183
Tributary 1 | At the confluence with Stewarts Creek | None | •166 | Unincorporated Areas of Harnett County.
| Approximately 0.4 mile upstream of Daniels Road | None | •184
Stony Run Tributary #1 | Approximately 500 feet upstream of the confluence with Stony Run | None | •190 | Unincorporated Areas of Harnett County.
| Approximately 0.9 mile upstream of the confluence with Stony Run | None | •198
Tributary 1 | At the confluence with Little River | None | •134 | Unincorporated Areas of Harnett County.
| Approximately 0.3 mile upstream of Rambeaut Road | None | •170
Tributary 2 | Approximately 800 feet downstream of Rambeaut Road | None | •175 | Unincorporated Areas of Harnett County.
| Approximately 100 feet downstream of Rambeaut Road | None | •181
Upper Little River | Approximately 300 feet upstream of the confluence with Cape Fear River | None | •190 | Unincorporated Areas of Harnett County.
| At the Lee/Harnett County boundary | None | •240
Walkers Creek | At the confluence with Upper Little River | None | •157 | Unincorporated Areas of Harnett County.
| Approximately 340 feet upstream of Tim Currin Road | None | •201
West Buies Creek | Approximately 1,000 feet upstream of East Cornelius Harnett Boulevard | None | •155 | Unincorporated Areas of Harnett County.
| Approximately 1.6 miles upstream of Sheriff Johnson Road | None | •216
City of Dunn
Maps are available for inspection at the Dunn Town Hall, 401 East Broad Street, Dunn, North Carolina.
Send comments to The Honorable John Snipes, Mayor of the City of Dunn, P.O. Box 1065, Dunn, North Carolina 28335.
Town of Angier
Maps are available for inspection at the Angier Town Hall, 55 North Broad West, Angier, North Carolina.
Send comments to The Honorable Wanda Gregory, Mayor of the Town of Angier, P.O. Box 278, Angier, North Carolina 27501-0278.
Unincorporated Areas of Harnett County
Maps are available for inspection at the Harnett County Planning Department, 102 East Front Street, Lillington, North Carolina.
Send comments to Mr. Neil Emory, Harnett County Manager, P.O. Box 759, Lillington, North Carolina 27546.
Orange County
Cates Creek | Approximately 1,800 feet upstream of the confluence with Eno River | •500 | •499 | Town of Hillsborough, Orange County (Unincorporated Areas).
| Approximately 0.8 mile upstream of U.S. Highway 40 | None | •660
Tributary | At the confluence with Cates Creek | •596 | •595 | Town of Hillsborough, Orange County (Unincorporated Areas).
| Approximately 0.5 mile upstream of Oak Ridge Drive | None | •664
Crabtree Creek | At the confluence with Sevenmile Creek | None | •539 | Orange County (Unincorporated Areas).
| Approximately 1.8 miles upstream of the confluence with Sevenmile Creek | None | •602
Dry Creek | Approximately 250 feet upstream of the confluence with Eno River | None | •552 | Orange County (Unincorporated Areas).
| Approximately 0.9 mile upstream of the confluence with Eno River | None | •589
East Fork Eno River | Approximately 215 feet upstream of NC 1352 | None | •628 | Orange County (Unincorporated Areas).
| Approximately 100 feet downstream of NC 86 | None | •668
Tributary 1 | Approximately 0.3 mile upstream of the confluence with East Fork Eno River | None | •595 | Orange County (Unincorporated Areas).
| Approximately 1.1 miles upstream of the confluence with East Fork Eno River | None | •627
Tributary 2 | Approximately 0.5 mile upstream of the confluence with East Fork Eno River | None | •618 | Orange County (Unincorporated Areas).
| Approximately 0.5 mile upstream of NC 1352 | None | •655
Forrest Creek | Approximately 200 feet upstream of NC 57 | None | •595 | Orange County (Unincorporated Areas).
| Approximately 125 feet upstream of Phelps Road | None | •644 |
High Rock Creek | Approximately 500 feet upstream of the confluence with Eno River | None | •561 | Orange County (Unincorporated Areas).
| Approximately 1,500 feet upstream of North Efland Cedar Grove Road | None | •640
Lick Creek | Approximately 750 feet downstream of Gray Road | None | •545 | Orange County (Unincorporated Areas).
| Approximately 1,600 feet upstream of Holly Ridge Road | None | •576
McGowan Creek | At North Lloyds Dairy Road | •569 | •567 | Orange County (Unincorporated Areas).
| Approximately 300 feet upstream of Frazier Road | None | •690 |
Little River North Fork | Approximately 280 feet upstream of NC 57 | None | •580 | Orange County (Unincorporated Areas).
| Approximately 1,350 feet upstream of Hester Road | None | •671 |
Tributary 2 | At the confluence with Little River North Fork | None | •591 | Orange County (Unincorporated Areas).
| Approximately 1.1 miles upstream of Gates Road | None | •607 |
Tributary 3 | At the confluence with Little River North Fork | None | •544 | Orange County (Unincorporated Areas).
| Approximately 0.7 mile upstream of Sneed Road | None | •564 |
Rays Creek | At the confluence with Little River South Fork | None | •593 | Orange County (Unincorporated Areas).
| Approximately 1.1 miles upstream of Wilkerson Road | None | •632 |
Rays Creek Tributary | At the confluence with Rays Creek | None | •607 | Orange County (Unincorporated Areas).
| Approximately 1.0 mile upstream of Wilkerson Road | None | •628 |
Rhodes Creek | Approximately 650 feet upstream of Cornwallis Road | None | •448 | Orange County (Unincorporated Areas).
| Approximately 1.2 miles upstream of Cornwallis Road | None | •507 |
Sevenmile Creek | Approximately 350 feet upstream of Interstate 85 | None | •533 | Orange County (Unincorporated Areas).
| Approximately 0.9 mile upstream of Pender Drive | None | •622 |
Tributary 1 | At the confluence with Sevenmile Creek | None | •539 | Orange County (Unincorporated Areas).
| Approximately 1.5 miles upstream of the confluence with Sevenmile Creek | None | •598 |
Tributary 2 | At the confluence with Sevenmile Creek | None | •591 | Orange County (Unincorporated Areas).
| Approximately 1,350 feet upstream of Bushy Cook Road | None | •642 |
Little River South Fork | Approximately 200 feet upstream of NC 57 | None | •552 | Orange County (Unincorporated Areas).
| Approximately 60 feet upstream of Hawkins Road | None | •637
Strouds Creek | Approximately 600 feet upstream of the confluence with Eno River | •486 | •485 | Orange County (Unincorporated Areas).
| Approximately 2,000 feet upstream of NC 86 | None | •660 |
Tributary 1 | Approximately 1,760 feet downstream of NC 57 | None | •590 | Orange County (Unincorporated Areas).
| Approximately 1,080 feet upstream of Phelps Road | None | •661 |
Tributary 2 | At the confluence with Strouds Creek | •520 | •519 | Orange County (Unincorporated Areas).
| Approximately 0.7 mile upstream of Miller Road | None | •575 |
Tributary 3 | At the confluence with Strouds Creek | None | •551 | Town of Hillsborough, Orange County (Unincorporated Areas).
| Approximately 0.5 mile upstream of NC 57 | None | •639 |
Tributary 1 to Sevenmile Creek | At the confluence with Sevenmile Creek Tributary 2 | None | •627 | Orange County (Unincorporated Areas). | Tributary 2 | Approximately 950 feet upstream of Bushy Cook Road | None | •631 |
West Fork Eno River | Approximately 200 feet upstream of Efland Cedar Grove Road | None | •592 | Orange County (Unincorporated Areas).
| Approximately 350 feet upstream of McDade Store Road | None | •672 |
Tributary 1 | Approximately 600 feet upstream of the confluence with Eno River | None | •579 | Orange County (Unincorporated Areas).
| Approximately 0.5 mile upstream of Harmony Church Road | None | •650 |
Tributary 2 | At the confluence with West Fork Eno River | None | •595 | Orange County (Unincorporated Areas).
| Approximately 1,500 feet upstream of Governor Scott Road | None | •623 |
Tributary 3 | At the confluence with West Fork Eno River | None | •643 | Orange County (Unincorporated Areas).
| Approximately 1.7 miles upstream of the confluence with West Fork Eno River | None | •681
Town of Hillsborough
Maps available for inspection at the Hillsborough Town Hall, 101 East Orange Street, Hillsborough, North Carolina.
Send comments to The Honorable Joe Phelps, Mayor of the Town of Hillsborough, P.O. Box 429, Hillsborough, North Carolina 27278.
Orange County (Unincorporated Areas)
Maps available for inspection at the Orange County Planning and Inspections Department, 306F Revere Road, Hillsborough, North Carolina.
Send comments to Mr. John M. Link, Jr., Orange County Manager, P.O. Box 8181, Hillsborough, North Carolina 27278.
Washington County
Conaby Creek | Approximately 1.4 miles upstream of Roosevelt Avenue | None | •24 | Unincorporated Areas of Washington County.
| Approximately 1.6 miles upstream of Roosevelt Avenue | None | •28 |
Conaby Creek Tributary | At the upstream side of Route 32 | None | •25 | Unincorporated Areas of Washington County.
| Approximately 0.7 mile upstream of Askew Lane | None | •31 |
Tributary 1 | Approximately 400 feet downstream of Shelly Drive | None | •10 | Unincorporated Areas of Washington County, Town of Plymouth.
| Approximately 0.8 mile upstream of Roxie Reese Road | None | •18 |
Tributary 1A | Approximately 850 feet upstream of the confluence with Conaby Creek Tributary 1 | None | •10 | Unincorporated Areas of Washington County, Town of Plymouth.
| Approximately 1.4 miles upstream of the confluence with Conaby Creek Tributary 1 | None | •11 |
Tributary to Conaby Creek Tributary | Just upstream of Garrett Island Road | None | •14 | Unincorporated Areas of Washington County, Town of Plymouth.
| Approximately 0.5 mile upstream of Garrett Island Road | None | •14 |
Welch Creek | Approximately 4.7 miles upstream of the confluence with Roanoke River | None | •8 | Unincorporated Areas of Washington County.
| Approximately 2.3 miles upstream of the confluence with Welch Creek Tributary 2 | None | •13 |
Welch Creek Tributary | At the upstream of Long Ridge Road | None | •20 | Unincorporated Areas of Washington County.
| Approximately 0.4 mile upstream of Long Ridge Road | None | •22 |
Tributary 2 | At the confluence with Welch Creek | None | •8 | Unincorporated Areas of Washington County.
| Approximately 0.8 mile upstream of the confluence with Welch Creek | None | •34 |
Town of Plymouth
Maps are available for inspection at the Plymouth Town Hall, 205 East Main Street, Plymouth, North Carolina.
Send comments to Mr. James Tripp, Plymouth Town Manager, P.O. Box 806, Plymouth, North Carolina 27962.
Unincorporated Areas of Washington County
Maps are available for inspection at the Washington County Permits, Inspections and Emergency Management, 120 Adams Street, Plymouth, North Carolina.
Send comments to Mr. David Peoples, Washington County Manager, P.O. Box 1007, Plymouth, North Carolina 27962.

(Catalog of Federal Domestic Assistance No. 83.100, “Flood Insurance.”)

David I. Maurstad,
Acting Director, Mitigation Division, Federal Emergency Management Agency.

[FR Doc. E6-3426 Filed 3-9-06; 8:45 am]

BILLING CODE 9110-12-P